DEPARTMENT OF HOMELAND SECURITY

Coast Guard

33 CFR Part 162

[Docket No. USCG-2013-0027]

Inland Waterways Navigation Regulations; Correction

AGENCY: U.S. Coast Guard, DHS.

ACTION: Notice of proposed rulemaking; correction.

SUMMARY: The Coast Guard is correcting a notice of proposed rulemaking that appeared in the Federal Register of April 26, 2013 (78 FR 24697). The document contained an incorrect RIN number. The corrected RIN number is RIN 1625-AC04.

FOR FURTHER INFORMATION CONTACT: If you have questions on this notice of proposed rulemaking, contact Ms. Oneida Cuevas, U.S. Coast Guard, Department of Homeland Security, telephone (202) 372-3848, Oneida.Cuevas@uscg.mil.

SUPPLEMENTARY INFORMATION: The heading of the notice of proposed rulemaking published in the Federal Register of April 26, 2013, in FR Doc. 2013-09853, on page 24697, contained an incorrect RIN Number, “1625-AB84.” The correct RIN Number is “1625-AC04.” To advise the public of this error, we are publishing this notice of correction.

Correction of Publication

Accordingly, the notice of proposed rulemaking Inland Waterways Navigation Regulations published in the Federal Register of April 26, 2013, in FR Doc. 2013-09853, is corrected as follows: On page 24697, in the heading, “RIN 1625-AB84” is corrected to read “RIN 1625-AC04.”

Dated: April 26, 2013.
Michael Cavallaro,
Commander, U.S. Coast Guard, Acting Chief, Office of Regulations and Administrative Law.

[FR Doc. 2013-10364 Filed 5-1-13; 8:45 am]

BILLING CODE 9110-04-P